DEPARTMENT OF THE INTERIOR

National Park Service

[N6963; NPS-WASO-NAGPRA-NPS0042097; PPWOCRADN0-PCU00RP14.R50000]

Notice of Inventory Completion: American Museum of Natural History, New York, NY

AGENCY: National Park Service, Interior.

ACTION: Notice.

SUMMARY: In accordance with the Native American Graves Protection and Repatriation Act (NAGPRA), the American Museum of Natural History (AMNH) has completed an inventory of associated funerary objects and has determined that there is a cultural affiliation between the associated funerary objects and Indian Tribes or Native Hawaiian organizations in this notice.

DATES: Repatriation of the associated funerary objects in this notice may occur on or after April 1, 2026.

ADDRESSES: Send written requests for repatriation of the associated funerary objects in this notice to Nell Murphy, American Museum of Natural History, 200 Central Park West, New York, NY 10024, email nmurphy@amnh.org.

SUPPLEMENTARY INFORMATION: This notice is published as part of the National Park Service's administrative responsibilities under NAGPRA. The determinations in this notice are the sole responsibility of the American Museum of Natural History, and additional information on the determinations in this notice, including the results of consultation, can be found in its inventory or related records. The National Park Service is not responsible for the determinations in this notice.

Abstract of Information Available

One associated funerary object has been identified. The associated funerary object is a smoking pipe from “Kukinumi Cave,” Kohala, HI. This location has been identified through consultation as Kukui Umi Cave, a well-known burial cave on Hawaii island. Catalog information further states that the item was found “inside coffin with Old Hawaiian” and gives a burial date of approximately 1860-1870.

The pipe was part of a larger accession sold to the AMNH in 1946 by Lt. Col. Linscott A. Hall, who was stationed at Fort Kamehameha on Oahu for two and a half years, beginning in 1937. Lt. Col. Hall reached the rank of Brigadier General in the U.S. Air Force before his retirement in 1970, following a military career that spanned over three decades. In addition to his military service, Hall taught at the U.S. Military Academy. Though the pipe was found in association with human remains at a known location, the human remains were never accessioned by the Museum. Museum accession records include a letter from Lt. Col. Hall stating that all human remains were turned over to local Army Medics, under a Captain Thompson at Fort Kamehameha “for instructional purposes.”

While it no longer does so, in the past, the Museum applied potentially hazardous pesticides to items in the collections. Museum records do not list specific objects treated or which of several chemicals used were applied to a particular item. Therefore, those handling this material should follow the advice of industrial hygienists or medical personnel with specialized training in occupational health or with potentially hazardous substances.

Cultural Affiliation

Based on the information available and the results of consultation, cultural affiliation is reasonably identified by the geographical location or acquisition history of the associated funerary objects described in this notice.

Determinations

The American Museum of Natural History has determined that:

• The one object described in this notice is reasonably believed to have been placed intentionally with or near individual human remains at the time of death or later as part of the death rite or ceremony.

• There is a connection between the associated funerary object described in this notice and the Hui Iwi Kuamo`o.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after April 1, 2026. If competing requests for repatriation are received, the American Museum of Natural History must determine the most appropriate requestor prior to repatriation. Requests for joint repatriation of the associated funerary objects are considered a single request and not competing requests. The American Museum of Natural History is responsible for sending a copy of this notice to the Indian Tribes and Native Hawaiian organizations identified in this notice.

Authority: Native American Graves Protection and Repatriation Act, 25 U.S.C. 3003, and the implementing regulations, 43 CFR 10.10.

Dated: February 20, 2026.
Melanie O'Brien,
Manager, National NAGPRA Program.

[FR Doc. 2026-04048 Filed 2-27-26; 8:45 am]

BILLING CODE 4312-52-P